DEPARTMENT OF AGRICULTURE

Farm Service Agency

Finding of No Significant Impact

AGENCY: Farm Service Agency, USDA.

SUMMARY: The Farm Service Agency (FSA) is issuing a Finding of No Significant Impact (FONSI) consistent with the National Environmental Policy Act of 1969 with respect to the implementation of the following Disaster Assistance Programs: (1) Hurricane Indemnity Program, (2) Feed Indemnity Program, (3) Livestock Indemnity Program, (4) Tree Indemnity Program, and (5) Aquaculture Grant Program as well as (6) the 2006 Livestock Assistance Grant Program.

DATES: This action is effective November 13, 2006.

ADDRESSES: The Final Programmatic Environmental Assessment and FONSI may be reviewed at http://www.fsa.usda.gov/dafp/cepd/epb/assessments.htm. Written comments should be directed to Mike Linsenbigler, USDA/FSA/CEPD/Stop 0513, 1400 Independence Ave., SW., Washington, DC 20250-0513. Electronic comments may be submitted to Mike.Linsenbigler@wdc.usda.gov. Persons with disabilities who require alternative means for communication (Braille, large print, audio tape, etc.) should contact the USDA Target Center at (202) 720-2600 (voice and TDD).

SUPPLEMENTARY INFORMATION: FSA prepared a Final Programmatic Environmental Assessment for disaster assistance programs supporting production loss and damage caused by damaging weather that occurred between 2005 and 2006. Consistent with the National Environmental Policy Act of 1969, as amended (42 U.S.C. 4321, et seq.) (NEPA), the Council on Environmental Quality (CEQ) Regulations for Implementing the Procedural Provisions of NEPA (40 CFR parts 1500-1508), and FSA's policy and procedures (7 CFR part 799), FSA is issuing a Finding of No Significant Impact (FONSI) with respect to the implementation of the Proposed Action under consideration here. These actions involve 2005-2006 disaster assistance programs that solely transfer funds to offset production and disaster related losses with no site-specific or ground-disturbing actions occurring as an immediate result of implementing these programs. These programs include the following Disaster Assistance Programs: (1) Hurricane Indemnity Program, (2) Feed Indemnity Program, (3) Livestock Indemnity Program, (4) Tree Indemnity Program, (5) Aquaculture Grant Program, and (6) the 2006 Livestock Assistance Grant Program. Because normal agricultural related production was hindered by the widespread and significant destruction caused by the 2005 hurricanes and the severe droughts occurring from March 7, 2006, to August 31, 2006, the Secretary is responding by utilizing the equivalent of 30 percent of annual customs revenues available under Section 32 to restore purchasing power to affected eligible producers.

Current disaster programs operated by USDA and other Federal and State agencies do not fully cover the types of loss and destruction experienced by a majority of producers within the States affected by these hurricanes and drought. Without the immediate financial assistance provided by these programs, producers would face delays and experience additional financial hardships in their efforts to return their farming or livestock operations to pre-disaster or pre-drought levels.

Under the Proposed Action Alternative, FSA would disburse up to $300 million either through direct payments to eligible producers or through grants administered by State agencies for the grant programs. In making direct payments, FSA does not require that payments be used for specific purposes. These programs solely provide payments to eligible producers for weather-related losses. The direct-payment programs are based on the producers documenting the type and amount of the weather-related loss.

Determination: In consideration of the analysis documented in the Final Programmatic Environmental Assessment and the reasons outlined in this FONSI, the preferred alternative would not constitute a major State or Federal action that would significantly affect the human environment. In accordance with the National Environmental Policy Act regulations at 40 CFR part 1502.4, “Major Federal actions requiring the preparation of Environmental Impact Statements,” and 7 CFR Part 799, “Environmental Quality and Related Environmental Concerns—Compliance with NEPA implementing the regulations of the Council on Environmental Quality,” and 40 CFR parts 1500-1508, I find that neither the proposed action nor any of the alternatives analyzed constitute a major Federal action significantly affecting the quality of the human environment. Therefore, no environmental impact statement will be prepared.

Signed in Washington DC on October 2, 2006.
Glen L. Keppy,
Acting Administrator, Farm Service Agency.

[FR Doc. E6-16734 Filed 10-10-06; 8:45 am]

BILLING CODE 3410-05-P